CORPORATION FOR NATIONAL AND COMMUNITY SERVICE

Proposed Information Collection: Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3508 (c)(2)(A)). This program helps to ensure that requested data can be provided in the desired format, reporting burden (time and financial resources) is minimized, collection instruments are clearly understood, and the impact of collection requirement on respondents can be properly assessed.

Currently, the Corporation is soliciting comments concerning its proposed revision of its AmeriCorps*NCCC Service Project Application form. Copies of the information collection requests can be obtained by contacting the office below in the ADDRESSES section of this notice.

DATES: Written comments must be submitted to the office listed in the ADDRESSES section on or before June 27, 2003.

ADDRESSES: Send comments to the Corporation for National and Community Service, Attn: Mr. William M. Ward, AmeriCorps*NCCC, 1201 New York Ave., NW., Washington, DC 20525.

FOR FURTHER INFORMATION CONTACT: William M. Ward, e-mail Wward@cns.gov, (202) 606-5000, ext. 375, TDD (202) 565-2799.

SUPPLEMENTARY INFORMATION: The Corporation for National and Community Service is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Background

This form has been used by community non-profit organizations, small community and faith based organizations, government agencies, and other prospective service project sponsors in the submission of proposed service projects for consideration by the AmeriCorps*National Civilian Community Corps.

Current Action

The Corporation seeks renewal of the current form. The revised form will incorporate lessons learned since program inception and will be used for the same purpose as the existing form. The current form is due to expire December 31, 2003.

Type of Review: Renewal.

Agency: Corporation for National and Community Service.

Title: AmeriCorps*NCCC Service Project Application.

OMB Number: 3045-0010.

Agency Number: N/A.

Affected Public: Various non-profit organizations/project sponsors.

Total Respondents: 900.

Frequency: Annually.

Average Time Per Response: 4 hours.

Estimated Total Burden Hours: 3600 hours.

Total Burden Cost (capital/startup): N/A.

Total Burden Cost (operating/maintenance): N/A.

Comments submitted in response to this notice will be summarized and/or included in the request for Office of Management and Budget approval of the information collection request; they will also become a matter of public record.

Dated: April 22, 2003.
Wendy Zenker,
Director, AmeriCorps*NCCC.

[FR Doc. 03-10303 Filed 4-25-03; 8:45 am]

BILLING CODE 6050-$$-P